SMALL BUSINESS ADMINISTRATION

[Disaster Declaration #13273 and #13274]

Mississippi Disaster Number MS-00059

AGENCY: U.S. Small Business Administration.

ACTION: Amendment 1.

SUMMARY: This is an amendment of the Presidential declaration of a major disaster for the State of Mississippi (FEMA-4081-DR), dated 09/01/2012.

Incident: Hurricane Isaac.

Incident Period: 08/26/2012 and continuing.

DATES: Effective Date: 09/07/2012.

Physical Loan Application Deadline Date: 10/31/2012.

EIDL Loan Application Deadline Date: 05/30/2013.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of MISSISSIPPI, dated 09/01/2012 is hereby amended to include the following areas as adversely affected by the disaster:

Primary Counties: (Physical Damage and Economic Injury Loans): Adams, Amite, Clarke, Forrest, George, Hinds, Lincoln, Marion, Pike, Stone, Walthall, Warren, Wilkinson.

Contiguous Counties: (Economic Injury Loans Only):

Mississippi: Claiborne, Copiah, Covington, Franklin, Greene, Issaquena, Jasper, Jefferson, Jefferson Davis, Jones, Lauderdale, Lawrence, Madison, Newton, Perry, Rankin, Simpson, Wayne, Yazoo.

Alabama: Choctaw.

Louisiana: Concordia, East Carroll, East Feliciana, Madison, Saint Helena, Tangipahoa, Tensas, West Feliciana.

All other information in the original declaration remains unchanged.

(Catalog of Federal Domestic Assistance Numbers 59002 and 59008)

James E. Rivera,
Associate Administrator for Disaster Assistance.

[FR Doc. 2012-23408 Filed 9-21-12; 8:45 am]

BILLING CODE 8025-01-P